DEPARTMENT OF ENERGY

Federal Energy Regulatory Commission

Combined Notice of Filings #1

Take notice that the Commission received the following electric rate filings:

Docket Numbers: ER16-1609-002.

Applicants: ID SOLAR 1, LLC.

Description: Supplement to October 22, 2019 ID SOLAR 1, LLC tariff filing (Notice of Change in Status).

Filed Date: 3/12/19.

Accession Number: 20190312-5227.

Comments Due: 5 p.m. ET 4/2/19.

Docket Numbers: ER17-532-001.

Applicants: PPA Grand Johanna LLC.

Description: Supplement to February 19, 2019 Notice of Non-Material Change in Status of PPA Grand Johanna LLC.

Filed Date: 3/26/19.

Accession Number: 20190326-5178.

Comments Due: 5 p.m. ET 4/16/19.

Docket Numbers: ER19-1398-000.

Applicants: Ameresco, Inc.

Description: Petition Of Ameresco, Inc. For Limited Waiver of Tariff Submission Deadline for Project Electrical Data Sheets.

Filed Date: 3/21/19.

Accession Number: 20190321-5064.

Comments Due: 5 p.m. ET 4/4/19.

Docket Numbers: ER19-1404-000.

Applicants: PJM Capacity Suppliers.

Description: Request for Limited Waiver, et al. of the PJM Capacity Suppliers.

Filed Date: 3/21/19.

Accession Number: 20190321-5165.

Comments Due: 5 p.m. ET 4/2/19.

Docket Numbers: ER19-1445-000.

Applicants: Midcontinent Independent System Operator, Inc.

Description: § 205(d) Rate Filing: 2019-03-26_SA 3290 Vectren-Republic T-T to be effective 3/26/2019.

Filed Date: 3/26/19.

Accession Number: 20190326-5234.

Comments Due: 5 p.m. ET 4/16/19.

Docket Numbers: ER19-1446-000.

Applicants: Southwest Power Pool, Inc.

Description: § 205(d) Rate Filing: Attachment P Revisions to Modify Submission Time for Daily Non-Firm Service to be effective 5/29/2019.

Filed Date: 3/27/19.

Accession Number: 20190327-5027.

Comments Due: 5 p.m. ET 4/17/19.

Docket Numbers: ER19-1447-000.

Applicants: Midcontinent Independent System Operator, Inc.

Description: § 205(d) Rate Filing: 2019-03-27_SA 3012 Wisconsin Power & Light-ATC 2nd Rev GIA (J390 J760) to be effective 3/13/2019.

Filed Date: 3/27/19.

Accession Number: 20190327-5034.

Comments Due: 5 p.m. ET 4/17/19.

Docket Numbers: ER19-1448-000.

Applicants: Entergy Services, LLC.

Description: Tariff Cancellation: Entergy Services, Inc. to be effective 1/1/2019.

Filed Date: 3/27/19.

Accession Number: 20190327-5036.

Comments Due: 5 p.m. ET 4/17/19.

Docket Numbers: ER19-1449-000.

Applicants: Midcontinent Independent System Operator, Inc., MidAmerican Energy Company.

Description: § 205(d) Rate Filing: 2019-03-27_SA 3281 MidAmerican—Outlaw Wind Project E&P (J476) to be effective 3/12/2019.

Filed Date: 3/27/19.

Accession Number: 20190327-5058.

Comments Due: 5 p.m. ET 4/17/19.

Docket Numbers: ER19-1450-000.

Applicants: PJM Interconnection, L.L.C.

Description: § 205(d) Rate Filing: Original ICSA, SA No. 5312; Queue No. AC1-165 to be effective 2/25/2019.

Filed Date: 3/27/19.

Accession Number: 20190327-5076.

Comments Due: 5 p.m. ET 4/17/19.

Docket Numbers: ER19-1451-000.

Applicants: PJM Interconnection, L.L.C.

Description: Tariff Cancellation: Notice of Cancellation of WMPA/SA No. 5052, Queue No. AD1-028 to be effective 4/23/2019.

Filed Date: 3/27/19.

Accession Number: 20190327-5080.

Comments Due: 5 p.m. ET 4/17/19.

Docket Numbers: ER19-1452-000.

Applicants: Midcontinent Independent System Operator, Inc.

Description: § 205(d) Rate Filing: 2019-03-27_SA 2465 Rock Aetna Power-Northern States Power 2nd Revised GIA (G621) to be effective 3/13/2019.

Filed Date: 3/27/19.

Accession Number: 20190327-5081.

Comments Due: 5 p.m. ET 4/17/19.

Docket Numbers: ER19-1453-000.

Applicants: West Penn Power Company, PJM Interconnection, L.L.C.

Description: § 205(d) Rate Filing: West Penn Power Company submits IA SA No. 4119 to be effective 5/25/2019.

Filed Date: 3/27/19.

Accession Number: 20190327-5091.

Comments Due: 5 p.m. ET 4/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2019.
Nathaniel J. Davis, Sr.,
Deputy Secretary.

[FR Doc. 2019-06379 Filed 4-1-19; 8:45 am]

BILLING CODE 6717-01-P